DEPARTMENT OF TRANSPORTATION

Federal Highway Administration

[Docket No. FHWA-2023-0052]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) for approval of a new (periodic) information collection. We published a Federal Register Notice with a 60-day public comment period on this information collection on September 20, 2023. We are required to publish this notice in the Federal Register by the Paperwork Reduction Act of 1995.

DATES: Please submit comments by January 8, 2024.

ADDRESSES: You may submit comments identified by DOT Docket ID Number 0052 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Paul Jodoin, 202-366-5465, Office of Operations, Federal Highway Administration, Department of Transportation, 1200 New Jersey Avenue SE, Washington, DC 20590, between 7:30 a.m. to 4:30 p.m., Monday through Friday, except Federal holidays.

SUPPLEMENTARY INFORMATION:

Title: Traffic Incident Management Capability.

OMB Control #: 2125-0650.

Background: Each of the over 6 million crashes per year presents a safety danger to motorists and responders while often causing delays on the nation's roads. It is critical to safety and mobility for these crashes to be mitigated as efficiently and safely as possible. To address these concerns, dozens of Traffic Incident Management (TIM) Programs have been established throughout the country over the past 25-30 years. Most of the top 75 metropolitan areas and several rural areas have some form of TIM Program, often coordinated through a multi-disciplinary committee comprised of all the response disciplines. The TIMSA tool was established to help regions assess the level of TIM Program maturity and to identify areas for improvement.

The information is used by each jurisdiction to better understand opportunities for improving safety and mobility in their region. The FHWA also uses the data to assess progress of the FHWA national TIM program and identify opportunities to help regions improve.

Respondents: Approximately 60 individuals will complete the questionnaire in collaboration with an estimated average of 5 other participants.

Frequency: Annually.

Estimated Average Burden per Response: Approximately 3 hours.

Estimated Total Annual Burden Hours: 180 Annual Hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: December 4, 2023.
Jazmyne Lewis,
Information Collection Officer.

[FR Doc. 2023-26929 Filed 12-7-23; 8:45 am]

BILLING CODE 4910-22-P